DEPARTMENT OF AGRICULTURE

Forest Service

Mill-Key-Wey Timber Sales; Superior Ranger District, Lolo National Forest; Mineral County, MT

AGENCY: Forest Service, USDA.

ACTION: Notice; Revised notice of intent to prepare environmental impact statement.

SUMMARY: The Forest Service published a notice of intent to prepare an environmental impact statement (EIS) for the Mill-Key-Wey Timber sales project in the Federal Register (vol. 64, no. 140, doc. no. 99-18759) on July 22, 1999. That notice of intent is revised to change the schedule for completion of the draft EIS.

Forest Service policy mandates that a revised Notice of Intent be filed when there is a delay of more than six months in filing the draft EIS. Originally the draft EIS was to be released in August of 1999 and the final EIS in December of 1999. The draft EIS was completed in February of 2000 with the final EIS anticipated to be published in April of 2001.

DATES: This action is effective upon publication of this notice.

ADDRESSES: Cindy Chapman Enstrom, Superior Ranger District, Box 460, Superior, MT 59872.

FOR FURTHER INFORMATION CONTACT: Pay Partyka, EIS Team Leader, Superior Ranger District, as above, or phone: (406) 826-4314.

Authority: 40 CFR 1508.22.

Dated: December 14, 2000.
Deborah L.R. Austin,
Forest Superior.

[FR Doc. 01-292 Filed 1-4-01; 8:45 am]

BILLING CODE 3410-11-M